SECURITIES AND EXCHANGE COMMISSION

[OMB Control No. 3235-0748]

Agency Information Collection Activities; Proposed Collection; Comment Request; Extension: Ombudsman Matter Management System (OMMS) Submission Form

Upon Written Request, Copies Available From: Securities and Exchange Commission, Office of FOIA Services, 100 F Street NE, Washington, DC 20549-2736

Notice is hereby given that, pursuant to the Paperwork Reduction Act of 1995 (44 U.S.C. § 3501 et seq.), the Securities and Exchange Commission (SEC or “Commission”) is soliciting comments on the proposed collection of information.

The Ombudsman Matter Management System (“OMMS”) is an electronic data collection system for the receipt, collection and analysis of inquiries, complaints, and recommendations from retail investors directed to the SEC Ombudsman (“Ombuds”) and the Office of the Investor Advocate. Section 4(g)(8) of the Securities Exchange Act of 1934 (Exchange Act), 15 U.S.C. 78d(g)(8) requires the SEC Ombuds to (i) act as a liaison between the Commission and any retail investor in resolving problems that retail investors may have with the Commission or with self-regulatory organizations (“SROs”); (ii) review and make recommendations regarding policies and procedures to encourage persons to present questions to the Investor Advocate regarding compliance with the securities laws; and (iii) establish safeguards to maintain the confidentiality of communications between the persons described in clause (ii) and the Ombuds. In addition, Section 4(g)(8) of the Securities Exchange Act of 1934 (Exchange Act), 15 U.S.C. 78d(g)(8) requires the Ombuds to submit a semi-annual report to the Investor Advocate describing the activities and evaluating the effectiveness of the Ombuds during the preceding year.

Each year, the SEC's Office of the Investor Advocate, Office of the Ombuds receives over 2,500 contacts from investors who have complaints or questions about the SEC or any of the self-regulatory organizations that it oversees. To make it easier for the public to contact the Ombuds, the Ombuds created an electronic form, the OMMS Submission Form, that provides drop down options to choose from in order to categorize the investor's complaint or question, and may also provide the investor with automated information about their issue. The OMMS Submission Form asks investors to provide information concerning, among other things, their names, how they can be reached, the names of the individuals or entities involved, the nature of their complaint or tip, what documents they can provide, and what, if any, actions they have taken. Use of the OMMS Submission Form is voluntary. Absent the forms, the public still has several ways to contact the Ombuds, including telephone, letters, and email. Investors can access the OMMS Submission Form through the Ombuds web page at the web address https://www.sec.gov/ombuds or directly at the web address https://omms.sec.gov.

The dual purpose of the OMMS Submission Form is to make it easier for the public to contact the agency with complaints, questions, tips, or other feedback and to streamline the workflow of Ombuds staff that record, process, and respond to investor contacts. Investors who submit complaints, ask questions, or provide tips do so voluntarily. Although the OMMS Submission Form provides a structured format for incoming investor correspondence, the Commission does not require that investors use any particular form or format when contacting the Ombuds. Investors who choose not to use the OMMS Submission Form will receive the same level of service as those who do.

The Ombuds receives approximately 1,500 contacts each year through the OMMS Submission Form. The Ombuds uses the information that investors supply on the OMMS Submission Form to review and process the contact (which may, in turn, involve responding to questions, processing complaints, or, as appropriate, referring matters to enforcement or examinations for potential investigations), to maintain a record of contacts, to track the volume of investor complaints, and to analyze trends.

The staff of the Commission estimates that the total reporting burden for using the OMMS Submission Form is 750 hours. The calculation of this estimate depends on the number of investors who use the forms each year and the estimated time it takes to complete the forms: 1,500 respondents × 30 minutes = 750 burden hours.

An agency may not conduct or sponsor, and a person is not required to respond to, a collection of information unless it displays a currently valid OMB Control Number.

Written comments are invited on: (a) whether this proposed collection of information is necessary for the proper performance of the functions of the SEC, including whether the information will have practical utility; (b) the accuracy of the SEC's estimate of the burden imposed by the proposed collection of information, including the validity of the methodology and the assumptions used; (c) ways to enhance the quality, utility, and clarity of the information to be collected; and (d) ways to minimize the burden of the collection of information on respondents, including through the use of automated, electronic collection techniques or other forms of information technology.

Please direct your written comments on this 60-Day Collection Notice to Austin Gerig, Director/Chief Data Officer, Securities and Exchange Commission, c/o Tanya Ruttenberg via email to PaperworkReductionAct@sec.gov by March 24, 2026. There will be a second opportunity to comment on this SEC request following the Federal Register publishing a 30-Day Submission Notice.

Dated: January 20, 2026.
Sherry R. Haywood,
Assistant Secretary.

[FR Doc. 2026-01213 Filed 1-22-26; 8:45 am]

BILLING CODE 8011-01-P